DEPARTMENT OF COMMERCE

National Oceanic and Atmospheric Administration

Notice of Availability of a Draft Damage Assessment and Restoration Plan and Environmental Assessment for the M/V ATHOS I Oil Spill; Request for Comments

AGENCY: National Oceanic and Atmospheric Administration (NOAA), Commerce.

SUMMARY: The Natural Resource Trustees (Trustees) for this project (identified below) have written a Draft Damage Assessment and Restoration Plan and Environmental Assessment (Draft DARP/EA) that describes proposed alternatives for restoring natural resource injuries and compensating for recreational losses resulting from the November 26, 2004, oil spill at a refinery in Paulsboro, New Jersey, into the Delaware River. The purpose of this notice is to inform the public of the availability of the Draft DARP/EA and to seek written comments on the proposed restoration alternatives.

DATES: Comments on the Draft DARP/EA must be submitted in writing on or before February 20, 2009.

ADDRESSES: Written comments on the Draft DARP/EA should be submitted to: NOAA/GCNR, Room 15107, 1315 East West Highway, Silver Spring, MD 20910, FAX: 301-713-1229. Alternatively, comments may be submitted electronically to the following e-mail address: NOS.AthosComments@noaa.gov. All comments received, including names and addresses, will become part of the public record.

The Draft DARP/EA is available at: http://www.darrp.noaa.gov/northeast/athos/index.html.

FOR FURTHER INFORMATION CONTACT: Linda Burlington, NOAA/GCNR, Room 15107, 1315 East West Highway, Silver Spring, MD 20910.

SUPPLEMENTARY INFORMATION: On November 26, 2004, the M/T ATHOS I (Athos) struck a large, submerged anchor while preparing to dock at a refinery in Paulsboro, New Jersey. The anchor punctured the vessel's bottom, resulting in the discharge of nearly 265,000 gallons of crude oil into the Delaware River and nearby tributaries. Federal, state, and local agencies responded to the incident to supervise and assist in clean-up and begin assessing the impact of the spill on natural resources. Under the federal Oil Pollution Act (OPA), two federal government agencies—the National Oceanic and Atmospheric Administration (NOAA), of the Department of Commerce, and U.S. Fish and Wildlife Service (USFWS), of the Department of the Interior—and the three affected states—New Jersey (NJ), Pennsylvania (PA), and Delaware (DE)—are responsible for restoring natural resources injured by the Athos spill with funding from the responsible party (RP) or, where an RP does not exist or exceeds its limit of liability, the Oil Spill Liability Trust Fund (OSLTF) administered by the U.S. Coast Guard (USCG).

The two federal agencies and the three affected states, acting as Trustees on the public's behalf, have conducted a natural resource damage assessment (NRDA) to determine the nature and extent of natural resource losses resulting from this incident and the restoration actions needed to restore these losses. The NRDA was conducted using the OPA NRDA regulations found at 15 CFR Part 990. On the basis of data provided by the NRDA, the Athos Trustees prepared this Draft Damage Assessment and Restoration Plan/Environmental Assessment (Draft DARP/EA) to consider restoration alternatives. The purpose of presenting this Draft DARP/EA for comment is to inform the public about the NRDA and restoration planning efforts that were conducted following the oil spill incident. Further, the Trustees seek comments on the proposed restoration alternatives presented in this Draft DARP/EA, and will consider written comments received during the public comment period before developing the Final Restoration Plan (Final Plan).

Injury assessments conducted by the Trustees and other experts determined that the following natural resources and recreational services were affected by the spill: Shoreline (including tributary and non-tributary losses); aquatic; birds; and recreational services (lost use). The four injury reports are:

• Shoreline Injury Assessment: M/T ATHOS I Oil Spill

• Bird and Wildlife Injury Assessment: M/T ATHOS I Oil Spill, Delaware River System

• Aquatic Injury Assessment: M/T ATHOS I Oil Spill, Delaware River System

• Lost Use Valuation Report

These injury assessment reports are now available in the Administrative Record at http://www.darrp.noaa.gov/northeast/athos/admin.html. The Trustees considered numerous restoration alternatives to compensate the public for spill-related injuries and to restore similar types of resources, and the services provided by the resources, that were injured by the spill. After evaluating the proposals, the Trustees identified and recommend each of the following preferred restoration projects for implementation once the DARP is finalized. For your information, a summary is provided below of the nine restoration projects proposed by the trustees. When submitting comments on these nine projects, please refer to the specific details outlined in the DARP. If, based on comments received, significant changes are required for any of the proposed projects, an alternative plan will be proposed for public consideration.

(1) Freshwater tidal wetlands restoration at John Heinz National Wildlife Refuge (PA) The Trustees propose to restore 7 acres of freshwater tidal wetland to benefit 56 acres within John Heinz National Wildlife Refuge to compensate for tributary losses. This project would restore tidal exchange to the proposed site through tidal channels, shallow pools, and shrub/scrub wetland habitat.

(2) Create oyster reef sanctuaries (NJ, DE) The Trustees propose to create roughly 78 acres of oyster reef sanctuary in the Delaware River to compensate for injuries to aquatic resources, diving birds, and gulls. The oyster reefs enhance benthic communities, increase aquatic food for fish and birds, and improve water quality by filtering out sediments and pollutants from the water column.

(3) Darby Creek dam removal and habitat restoration (PA) The Trustees propose to remove three dams from Darby Creek in southeastern Pennsylvania to open up an additional 2.6 miles of habitat to anadromous fish, and restore about 10 acres of riparian habitat along the creek edges. Dam removal and riparian habitat projects would compensate for tributary losses.

(4) Habitat restoration at Mad Horse Creek (NJ) The Trustees propose to restore 62.5 acres of degraded wetland and create 35 acres of wet meadow and 100 acres of grassland at state-owned property on Mad Horse Creek (NJ). The proposed wetland restoration would compensate for non-tributary shoreline losses and a portion of bird loss. The increase in upland vegetation (wet meadow and grassland habitat) would serve as food sources that can reasonably be expected to enhance bird biomass, thereby compensating for a portion of the total bird loss.

(5) Shoreline restoration at Lardner's Point (PA) The Trustees propose to restore shoreline through the demolition of existing structures, import of fill material, grading of the site to restore tidal inundation, and creation of intertidal marsh and wet meadow habitat. This shoreline restoration project would have multiple benefits in the urban part of the river that was heavily impacted by the spill.

(6) Blackbird Reserve Wildlife Area Pond and Pasture Enhancement (DE) The Trustees propose to excavate two shallow wetland ponds in former agricultural areas, convert 16 acres of agricultural lands to cool-season grass pasture, and establish 24 acres of food plots by modifying existing agricultural practices. Conversion of existing agricultural land to pond and pasture habitat and modification of existing agricultural practices would provide resting and foraging areas targeted to migratory geese.

Improve recreational opportunities (PA, NJ, DE) The Trustees propose to implement three projects to address the estimated 41,709 river trips that were affected by the spill:

(7) Improve the Stow Creek (NJ) boat ramp;

(8) Create an additional breakwater at Augustine Boat Ramp (DE) to address ongoing shoaling immediately offshore of the boat ramp; and

(9) Enhance the recreational trail on Little Tinicum Island (PA).

The U.S. Coast Guard (USCG) has determined that the Responsible Party has exceeded its limit of liability under OPA. Therefore, the Final Plan will be submitted to the Oil Spill Liability Trust Fund (OSLTF) as part of a claim for funds to implement the selected restoration projects. The OSLTF is administered by the USCG. It was established and is maintained by a fee paid by industry based on the amount of oil shipped.

Administrative Record

Pursuant to the OPA NRDA regulations, the Trustees have developed an Administrative Record to support their restoration planning decisions and inform the public of the basis of their decisions. Additional information and documents, including public comments received on this Draft DARP/EA, the Final Restoration Plan, and other related restoration planning documents, will also become part of the Administrative Record, and will be submitted to a public repository upon their completion.

The documents comprising the public record (Administrative Record) can be viewed at http://www.darrp.noaa.gov/northeast/athos/admin.html.

Dated: December 19, 2008.
Christopher C. Cartwright,
Associate Assistant Administrator for Management and CFO/CAO, Ocean Services and Coastal Zone Management.

[FR Doc. E8-31042 Filed 1-5-09; 8:45 am]

BILLING CODE 3510-JE-P